DEPARTMENT OF HEALTH AND HUMAN SERVICES

Centers for Disease Control and Prevention

[60-Day-11-11AI]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Carol Walker, Acting CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Measuring Preferences for Quality of Life for Child Maltreatment—New—National Center for Injury Prevention and Control (NCIPC), Division of Violence Prevention (DVP), Centers for Disease Control and Prevention (CDC).

Background and Brief Description

Child maltreatment (CM) is a major public health problem in the United States, causing substantial morbidity and mortality (DHHS, 2010), and the prevalence for any of the three major types of CM (physical abuse, sexual abuse, and neglect) is estimated at approximately 28% (Hussey et al., 2006). Additionally, the annual incidence of any type of CM among children and adolescents 0-17 has been estimated at nearly 14%, while physical and sexual abuse are estimated at 3.7% and 0.6%, respectively (Finkelhor et al., 2005). CM has been shown to have lifelong adverse physical and mental health consequences for survivors (Felitti et al., 1998), including behavioral problems (Felitti et al. 1998; Repetti et al. 2002), mental health conditions such as post-traumatic stress disorder (PTSD) (Browne and Finkelhor, 1986; Holmes and Sammel, 2005; Moeller and Bachman, 1993), increased trouble with interpersonal relationships (Fang and Corso, 2007), increased risk of chronic diseases (Browne and Finkelhor, 1986), and lasting impacts or disability from physical injury (Dominguez et al. 2001). The consequences of CM have both a direct impact, through reduced health, as well as an indirect impact, through reduced health-related quality of life (HRQoL, or simply QoL), the state of “utility” or satisfaction that a person experiences as a result of their health (Drummond et al. 1997).

The CDC requests approval of a survey-based study to measure the Health-Related Quality-of-Life (HRQoL) impacts resulting from child maltreatment (CM) using a quantitative, preference-based approach. The US Department of Health and Human Services, among many others, has identified child maltreatment as a serious U.S. public health problem with substantial long-term physical and psychological consequences. Despite considerable research on the consequences of CM in adult survivors, few studies have utilized standard HRQoL techniques and none have quantified childhood HRQoL impacts. This gap in the literature means the full burden of CM on HRQoL has not been measured, inhibiting the evaluation and comparison of CM intervention programs. This study will improve public health knowledge and economic evaluation of the HRQoL impacts of CM, including effects specific to juvenile and adolescent survivors, through the development and fielding a preference-based survey instrument.

CDC has developed a survey instrument to quantify the HRQoL impacts of child maltreatment following standardized methods. The survey was developed based on findings from a literature review of CM outcomes, focus groups with adult CM survivors, and expert review of outcomes by clinician consultants who work with survivors of CM or who are researchers in the field of CM. The survey is designed to quantify two types of data. The main objective is the HRQoL decrement attributable to CM, measured as the difference in HRQoL scores by CM survivorship history. A secondary objective is a statistical evaluation of these decrements, based on respondent preferences over a series of comparisons that will be shown to survey respondents.

An invitation to the online survey will be fielded to a nationally-representative sample of 2,700 U.S. adults. Among the adults who receive the invitation, 1,650 are expected to complete the consent form and 1,500 are expected to complete the survey. The survey will include HRQoL questions to capture the two types of data above, as well as select items on sociodemographics. Past exposure to CM will be measured using the Child Trauma Questionnaire (CTQ), the briefest and most nonintrusive set of scientifically validated questions to identify 5 types of past child abuse and neglect.

Final results will provide an estimate of the HRQoL burden of child maltreatment in the United States. Analysis and results of the survey data will be used to inform the scientific and public health communities of the impacts of CM, and to evaluate and compare CM intervention programs. There is no cost to respondents other than their time.

Estimated Annualized Burden Hours
Respondents (forms listed in parentheses) | Number of respondents | Number of responses per respondent | Average burden per response (in hours) | Total burden (in hours)
General national sample of adults age 18+ (survey invitation) | 2,700 | 1 | 2/60 | 90
General national sample of adults age 18+ (consent form) | 1,650 | 1 | 2/60 | 55
General national sample of adults age 18+ (full survey) | 1,500 | 1 | 25/60 | 625
Total |  |  |  | 770

Carol Walker,
Acting Reports Clearance Officer, Centers for Disease Control and Prevention.

[FR Doc. 2010-27487 Filed 10-29-10; 8:45 am]

BILLING CODE 4163-18-P